DEPARTMENT OF ENERGY

Environmental Management Site-Specific Advisory Board, Northern New Mexico

AGENCY: Department of Energy.

ACTION: Notice of Cancellation of Open Meeting.

SUMMARY: This notice announces the cancellation of the March 5, 2007, meeting of the Environmental Management Site-Specific Advisory Board (EM SSAB), Northern New Mexico. The Federal Advisory Committee Act (Pub. L. No. 92-463, 86 Stat. 770) requires that public notice of this meeting cancellation be announced in the Federal Register. This meeting is being rescheduled to March 12, 2007.

FOR FURTHER INFORMATION CONTACT: Menice Santistevan, Northern New Mexico Citizens' Advisory Board (NNMCAB), 1660 Old Pecos Trail, Suite B, Santa Fe, NM 87505. Phone (505) 995-0393; Fax (505) 989-1752 or E-mail: msantistevan@doeal.gov.

Issued at Washington, DC on February 23, 2007.
Rachel M. Samuel,
Deputy Advisory Committee Management Officer.

[FR Doc. E7-3500 Filed 2-27-07; 8:45 am]

BILLING CODE 6405-01-P